FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 011117-052.

Title: United States/Australasia Discussion Agreement.

Parties: ANL Singapore Pte Ltd.; CMA-CGM; Compagnie Maritime Marfret S.A.; Hamburg-Süd; Hapag-Lloyd AG; and Mediterranean Shipping Company S.A.

Filing Party: Wayne R. Rohde, Esq.; Cozen O'Connor; 1627 I Street NW., Suite 1100; Washington, DC 20006-4007.

Synopsis: The amendment would revise the minimum service levels set forth in the agreement.

Agreement No.: 011138-002.

Title: Greater Bali Hai Service.

Parties: Mitsui O.S.K. Lines, Ltd., and China Navigation Co. Pte. Ltd.

Filing Parties: Neal M Mayer, Esq.; Hoppel, Mayer & Coleman; 1050 Connecticut Avenue NW., 10th Floor; Washington, DC 20036.

Synopsis: The amendment deletes Nippon Yusen Kaisha and Kyowa Shipping Co., Ltd. as parties to the agreement, updates the name and address of China Navigation Co. Pte. Ltd., and adjusts the remaining parties' contributions and losses.

Agreement No.: 011346-023.

Title: Israel Carrier Association.

Parties: A.P. Moller-Maersk A/S trading under the name Maersk Line; American President Lines, Ltd.; and Zim Integrated Shipping Services, Ltd.

Filing Party: Wayne R. Rohde, Esq.; Cozen O'Connor; 1627 I Street NW., Suite 1100; Washington, DC 20006-4007.

Synopsis: The amendment deletes authority to enter into exclusive, preferential, or cooperative working agreements with marine terminal operators.

Agreement No.: 011733-032.

Title: Common Ocean Carrier Platform Agreement.

Parties: A.P. Moller-Maersk A/S; American President Lines, Ltd., APL Co., PTE Ltd.; CMA CGM; Hamburg-Süd; Hapag-Lloyd AG; Mediterranean Shipping Company S.A.; and United Arab Shipping Company (S.A.G.) as shareholder parties, and Alianca Navegacao e Logistica Ltda.; China Shipping Container Lines Company Limited; Compania Chilena de Navegacion Interoceanica S.A.; Compania Sud Americana de Vapores, S.A.; Companhia Libra de Navegacao; COSCO Container Lines Co., Ltd.; Emirates Shipping Lines; Evergreen Line Joint Service Agreement; Gold Star Line, Ltd.; Hanjin Shipping Co., Ltd.; Hyundai Merchant Marine Co. Ltd; Intermarine LLC; Kawasaki Kisen Kaisha, Ltd.; MISC Berhad; Mitsui O.S.K. lines Ltd.; Nippon Yusen Kaisha; Norasia Container Lines Limited; Tasman Orient Line C.V. and Zim Integrated Shipping as non-shareholder parties.

Filing Party: Wayne R. Rohde, Esq.; Cozen O'Connor; 1627 I Street NW., Suite 1100; Washington, DC 20006-4007.

Synopsis: The amendment adds Yang Ming Transport Corporation as a non-shareholder party to the agreement.

Agreement No.: 011962-010.

Title: Consolidated Chassis Management Pool Agreement.

Parties: The Ocean Carrier Equipment Management Association and its member lines; the Association's subsidiary Consolidated Chassis Management LLC and its affiliates; CCM Holdings LLC; CCM Pools LLC and its subsidiaries; Matson Navigation Co.; and Westwood Shipping Lines.

Filing Party: Donald J. Kassilke, Esq.; Cozen O'Conner; 1627 I Street NW., Suite 1100; Washington, DC 20006-4007.

Synopsis: The Amendment makes various revisions to the names and addresses of the parties, and deletes Crowley Maritime Corporation, Crowley Latin America Services, LLC, and Crowley Caribbean Services, LLC as parties to the Agreement.

Agreement No.: 012244.

Title: HSDG/Zim Intermodal Cooperation Agreement.

Parties: Hamburg Sud and Zim Integrated Shipping Services Limited.

Filing Party: Joshua P. Stein; Cozen O'Connor; 1627 I Street NW., Suite 1100; Washington, DC 20006-4007.

Synopsis: The agreement authorizes the parties to jointly procure inland transportation between inland or coastal points in the U.S. and ports of the U.S. for containerized cargo destined to or arriving from any country in the world.

By Order of the Federal Maritime Commission.
Dated: January 31, 2014.
Rachel E. Dickon,
Assistant Secretary.

[FR Doc. 2014-02431 Filed 2-4-14; 8:45 am]

BILLING CODE 6730-01-P